DEPARTMENT OF HOMELAND SECURITY

Federal Emergency Management Agency

[Docket ID: FEMA-2015-0025; OMB No. 1660-NEW]

Agency Information Collection Activities: Proposed Collection; Comment Request; Individual & Community Preparedness Division (ICPD) Annual Youth Preparedness Council (YPC) Application Form

AGENCY: Federal Emergency Management Agency, DHS.

ACTION: Notice.

SUMMARY: The Federal Emergency Management Agency, as part of its continuing effort to reduce paperwork and respondent burden, invites the general public and other Federal agencies to take this opportunity to comment on a new information collection. In accordance with the Paperwork Reduction Act of 1995, this notice seeks comments concerning the Individual & Community Preparedness Division (ICPD) Annual Youth Preparedness Council (YPC) Application Form.

DATES: Comments must be submitted on or before December 28, 2015.

ADDRESSES: To avoid duplicate submissions to the docket, please use only one of the following means to submit comments:

(1) Online. Submit comments at www.regulations.gov under Docket ID FEMA-2015-0025. Follow the instructions for submitting comments.

(2) Mail. Submit written comments to Docket Manager, Office of Chief Counsel, DHS/FEMA, 500 C Street SW., 8NE., Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Ryan Gaul, Administrative Specialist, FEMA, National Preparedness Directorate, Individual & Community Preparedness Division, (202) 786-9852. You may contact the Records Management Division for copies of the proposed collection of information at email address: FEMA-Information-Collections-Management@fema.dhs.gov.

SUPPLEMENTARY INFORMATION: The FEMA Youth Preparedness Council (YPC) was formed to bring together youth leaders from across the country who are highly interested and engaged in advocating youth preparedness and making a difference in their communities. This collection meets the requirements of 6 U.S.C. Sec. 742, National Preparedness, and Presidential Policy Directive—8 (PPD-8) which emphasize the need for involvement from all sectors of society in preparing for and responding to threats and hazards.

Collection of Information

Title: Individual & Community Preparedness Division (ICPD) Annual Youth Preparedness Council (YPC) Application Form.

Type of Information Collection: New information collection.

OMB Number: 1660-NEW.

FEMA Forms: FEMA Form 008-0-0-24, FEMA Youth Preparedness Council Application Form.

Abstract: FEMA Headquarters and regional staff review completed applications to select council members based on dedication to public service, efforts in making a difference in their community, and potential for expanding their impact as a national advocate for youth preparedness. Applicants for the YPC apply by downloading a PDF application from FEMA's Web site and submit the application and related documents, including reference letters, to FEMA via the FEMA-Youth-Prepareness-Council@fema.dhs.gov email address. One youth from each of the ten regions for which FEMA is divided is selected to serve as a council member. An additional 5 youths are selected for an at-large assignment.

Affected Public: Individuals or households.

Number of Respondents: 100.

Number of Responses: 100.

Estimated Total Annual Burden Hours: 142 hours.

Estimated Cost: The estimated annual cost to respondents for the hour burden is $0. There are no annual costs to respondents' operations and maintenance costs for technical services. There are no annual start-up or capital costs. The cost to the Federal Government is $65,662.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: October 21, 2015.
Richard W. Mattison,
Records Management Program Chief, Mission Support, Federal Emergency Management Agency, Department of Homeland Security.

[FR Doc. 2015-27476 Filed 10-27-15; 8:45 am]

BILLING CODE 9111-46-P